DEPARTMENT OF TRANSPORTATION

Federal Aviation Administration

[Summary Notice No. PE-2000-49]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR part 11), this notice contains a summary of certain petitions seeking relief from specified requirements of the Federal Aviation Regulations (14 CFR Ch. I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before October 23, 2000.

ADDRESSES: Send comments on any petition in triplicate to: Federal Aviation Administration, Office of the Chief Counsel, Attn: Rule Docket (AGC-200), Petition Docket No. ____, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Cherie Jack (202) 267-7271, Forest Rawls (202) 267-8033, or Vanessa Wilkins (202) 267-8029 Office of Rulemaking (ARM-1), Federal Aviation Administration, 800 Independence Avenue, SW., Washington, DC 20591.

This notice is published pursuant to paragraphs (c), (e), and (g) of § 11.27 of part 11 of the Federal Aviation Regulations 914 CFR part 11).

Issued in Washington, DC., on September 26, 2000.
Donald P. Byrne,
Assistant Chief Counsel for Regulations.

Petitions for Exemption

Docket No.: 30132.

Petitioner: Mr. Brian Daniel.

Section of the FAR Affected: 14 CFR 61.109(d)(2)(i) and 61.109(d)(3).

Description of Relief Sought: To permit Mr. Daniel to obtain a private pilot certificate with gyroplane class rating without meeting the cross-country night flight training requirements.

Docket No.: 30122.

Petitioner: Bombardier Aerospace Dallas/Forth Worth Customer Training Center.

Section of the FAR Affected: 14 CFR 91.105(a) and 135.338(f).

Description of Relief Sought: To allow (1) persons assigned as required crewmembers on aircraft operated by Bombardier Aerospace to temporarily relinquish their crewmember stations to DFW-CTC instructors for the purpose of meeting the requirements of § 142.53(b)(1) of 14 CFR when those instructors do not hold valid medical certificates issued by the Federal Aviation Administration (FAA); and (2) individuals who meet the requirements of § 142.53(b)(1) to be considered to meet the requirements of § 135.338(f)(1).

Docket No.: 30151.

Petitioner: Lufthansa Technik.

Section of the FAR Affected: 14 CFR 25.785(b).

Description of Relief Sought: To permit side-facing divans to be installed for “private, not-for-hire” use on a Boeing Model 777-200 airplane.

[FR Doc. 00-25077 Filed 9-28-00; 8:45 am]

BILLING CODE 4910-13-M